DEPARTMENT OF JUSTICE

Antitrust Division

Notice Pursuant to the National Cooperative Research and Production Act of 1993—Wireless Application Protocol Forum, LTD.

Notice is hereby given that, on October 3, 2000, pursuant to Section 6(a) of the National Cooperative Research and Production Act of 1993, 15 U.S.C. 4301 et seq. (“the Act”), Wireless Application Protocol Forum, Ltd. (“WAP”) has filed written notifications simultaneously with the Attorney General and the Federal Trade Commission disclosing changes in its membership status. The notifications were filed for the purpose of extending the Act's provisions limiting the recovery of antitrust plaintiffs to actual damages under specified circumstances. Specifically, ActiveSky, Inc., Redwood, CA; Adam Comsof Ltd., Bombay, India; Adobe Systems Inc., San Jose, CA; Airwallet, Redwood City, CA; Alerts.com, Raleigh, NC; Apar Infotech Ltd., Maidenhead, England, United Kingdom; AsiaInfo Holdings, Inc., Santa Clara, CA; Aspective Limited, Middlesex, England, United Kingdom; Axel Digital Group Oyj, Helsinki, Finland; Belgacom Mobile, Brussels, Belgium; Bosch, Stuttgart, Germany; Cambridge Technology Partners, Inc., Cambridge, MA; CellStar, Carrollton, TX; Centerpost Corp., Chicago, IL; Clarkston Potomac Group, Durham, NC; Condat A/S, Aalborg, Denmark; CR2 Limited, Dublin, Ireland; CYBIRD Co., Ltd., Tokyo, Japan; Dimon Software, Reykjavik, Iceland; Documentum, Inc., Pleasanton, CA; eFrenzy, Inc., San Francisco, CA; Electronic Business Research Center, Hsinchu, Taiwan; Enition Incorporated, Santa Clara, CA; Europay International, Waterloo, Belgium; EZOS, Braine-L'Alleud, Belgium; FDTI, Lisboa, Portugal; Feelingk.Co., Ltd., Seoul, Republic of Korea; FolloWAP, Inc., New York, NY; Hello Asia, Redwood City, CA; HiddenMind Technology, Cary, NC; Hii Co., Ltd., Fu Shin Ten, Taipei County, Taiwan; hotpalm.com, Atlanta, GA; iDini Corporation, San Jose, CA; Impronta Comunicaciones, S.L., Madrid, Spain; Informa Telecoms Group, London, England, United Kingdom; Informal Ltd, Leominster, Herefordshire, England, United Kingdom; Isovia, Inc., Boston, MA; Jumbuck Corporation Ltd., Melbourne, Victoria, Australia; Kyocera Corporation, Kanagwa, Japan; m-IQ Ltd., London, England, United Kingdom; MediaSolv.com, Inc., San Jose, CA; Microband, Inc., New York, NY; MICROPOLE, Nanterre, France; Mobileaware Limited, Dublin, Ireland; MobileQ, Inc., Toronto, Ontario, Canada; Mobileum, Inc., Pleasanton, CA; nCipher, Inc., Woburn, MA; Net Manage, Inc., Cupertino, CA; ome internet communication services AG, Vienna, Austria; Onscan, Inc., Fremont, CA; OverNet Data, London, England, United Kingdom; Paradigm4, Inc., Bothell, WA; PhoneDo Networks Inc., Haifa Bay, Israel; Red-M Limited, Wexham Slough Bucks, England, United Kingdom; ReefEdge, Inc., Fort Lee, NJ; ResQNet.com, Inc., New York, NY; SAS Institute Inc., Cary, NY; SeraNova, Inc., Rosemont, IL; Sierra Wireless, Richmond, British Columbia, Canada; Societe Generale, Paris La Defense, France; Spyrus, Inc., Santa Clara, CA; SurfControl plc, Congleton, Cheshire, England, United Kingdom; SurfGold.com, Singapore, SINGAPORE; ThatWEb.com Private Limited, Singapore, Singapore; UBICCO, Paris, France; Webtop DZ, Cambridge, England, United Kingdom; White.Cell, Inc., Rosh-Haayin, Israel; XYPoint Corporation, Seattle, WA; YesMobile Holdings Co., Ltd., Hong Kong, Hong Kong-China; and ZION Limited, Tokyo, Japan have been added as parties to this venture.

No other changes have been made in either the membership or planned activity of the group research project. Membership in this group research project remains open, and WAP intends to file additional written notifications disclosing all changes in membership.

On March 18, 1998, WAP filed its original notification pursuant to Section 6(a) of the Act. The Department of Justice published a notice in the Federal Register pursuant to Section 6(b) of the Act on December 31, 1998 (63 FR 72333).

The last notification was filed with the Department on April 3, 2000. A notice for this filing has not yet been published in the Federal Register.

Constance K. Robinson,
Director of Operations, Antitrust Division.

Joint Venture Worksheet
[Supplemental Filings Only]
A. Name of venture: Wireless Application Protocol Forum, Ltd; Nature of notification: supplemental; Concise statement of purpose (if purpose has changed): Same as before—no changes.
B. For ventures involving research and development only:
Identity of parties added to venture: | Identity of parties dropped from venture:
1. ActiveSky, Inc., Redwood, CA |
2. Adam Comsof Ltd., Bombay, INDIA |
3. Adobe Systems Inc., San Jose, CA |
4. Airwallet, Redwood City, CA |
5. Alerts.com, Raleigh, NC |
6. Apar Infotech Ltd., Maidenhead, England, UNITED KINGDOM |
7. AsiaInfo Holdings, Inc., Santa Clara, CA |
8. Aspective Limited, Middlesex, England, UNITED KINGDOM |
9. Axel Digital Group Oyj, Helsinki, FINLAND |
10. Belgacom Mobile, Brussels, BELGIUM |
11. Bosch, Stuttgart, GERMANY |
12. Cambridge Technology Partners, Inc., Cambridge, MA |
13. CellStar, Carrollton, TX |
14. Centerpost Corp., Chicago, IL |
15. Clarkston Potomac Group, Durham, NC |
16. Condat A/S, Aalborg, DENMARK |
17. CR2 Limited, Dublin, IRELAND |
18. CYBIRD Co., Ltd., Tokyo, JAPAN |
19. Dimon Software, Reykjavik, ICELAND |
20. Documentum, Inc., Pleasanton, CA |
21. eFrenzy, Inc., San Francisco, CA |
22. Electronic Business Research Center, Hsinchu, TAIWAN |
23. Enition Incorporated, Santa Clara, CA |
24. Europay International, Waterloo, BELGIUM |
25. EZOS, Braine-L' Alleud, BELGIUM |
26. FDTI, Lisboa, PORTUGAL |
27. Feelingk. Co., Ltd., Seoul, REPUBLIC OF KOREA |
28. FolloWAP, Inc., New York, NY |
29. Hello Asia, Redwood City, CA |
30. HiddenMind Technology, Cary, NC |
31. Hii Co., Ltd., Fu Shin Ten, Taipei County, TAIWAN |
32. hotpalm.com, Atlanta, GA |
33. iDini Corporation, San Jose, CA |
34. Impronta Comunicaciones, S.L., Madrid, SPAIN |
35. Informa Telecoms Group, London, England, UNITED KINGDOM |
36. Informal Ltd, Leominster, Herefordshire, England, UNITED KINGDOM |
37. Isovia, Inc., Boston, MA
38. Jumbuck Corporation Ltd., Melbourne, Victoria, AUSTRALIA |
39. Kyocera Corporation, Kanagwa, JAPAN |
40. m-IQ Ltd., London, England, UNITED KINGDOM |
41. MediaSolv.com, Inc., San Jose, CA |
42. Microband, Inc., New York, NY |
43. MIRCOPOLE, Nanterre, FRANCE |
44. Mobileaware Limited, Dublin, IRELAND |
45. MobileQ, Inc., Toronto, Ontario, CANADA |
46. Mobileum, Inc., Pleasanton, CA |
47. nCipher, Inc., Woburn, MA |
48. Net Manage, Inc., Cupertino, CA |
49. ome internet communication services AG, Vienna, AUSTRIA |
50. Onscan, Inc., Fremont, CA |
51. OverNet Data, London, England, UNITED KINGDOM |
52. Paradigm4, Inc., Bothell, WA |
53. PhoneDo Networks Inc., Haifa Bay, ISRAEL |
54. Red-M Limited, Wexham Slough Bucks, England, UNITED KINGDOM |
55. ReefEdge, Inc., Fort Lee, NJ |
56. ResQNet.com, Inc., New York, NY |
57. SAS Institute Inc., Cary, NY |
58. SeraNova, Inc., Rosemont, IL |
59. Sierra Wireless, Richmond, British Columbia, CANADA |
60. Societe Generale, Paris La Defense, FRANCE |
61. Spyrus, Inc., Santa Clara, CA |
62. SurfControl plc, Congleton, Cheshire, England, UNITED KINGDOM |
63. SurfGold.com, Singapore, SINGAPORE |
64. ThatWeb.com Private Limited, Singapore, SINGAPORE |
65. UBICCO, Paris, FRANCE |
66. Webtop DZ, Cambridge, England, UNITED KINGDOM |
67. White.Cell, Inc., Rosh-Haayin, ISRAEL |
68. XYPoint Corporation, Seattle, WA |
69. YesMobile Holdings Co., Ltd., Hong Kong, HONG KONG-CHINA |
70. ZION Limited, Tokyo, JAPAN |
C. For ventures involving production: Identity and nationality of parties to joint production venture:

Identity | Nationality | Place of Incorporation | Location of Principal Executive Offices

[FR Doc. 00-33252 Filed 12-28-00; 8:45 am]

BILLING CODE 4410-01-M